DEPARTMENT OF THE INTERIOR

National Park Service

AGENCY: National Park Service.

ACTION: Notice of Availability of the Record of Decision for the Final Recreational Off-Road Vehicle Management Plan/Supplemental Environmental Impact Statement, Big Cypress National Preserve, Florida.

SUMMARY: The National Park Service has prepared this Record of Decision (ROD) on the Final Recreational Off-Road Vehicle Management Plan/Supplemental Environmental Impact Statement, for Big Cypress National Preserve, Florida. This ROD includes a description of the need for the plan, a summary of the planning process, a statement of the decision made, the basis for the decision, a synopsis of other alternatives considered, a description of the environmentally preferable alternative, and a listing of the measures to minimize environmental harm.

DATES: This ROD became effective upon signature by the Director of the National Park Service on September 28, 2000.

ADDRESSES: Copies of the Record of Decision for the Big Cypress Final Recreational Off-Road Vehicle Management Plan/Supplemental Environmental Impact Statement are available from the Superintendent, Big Cypress National Preserve, HCR 61, Box 110, Ochopee, Florida 34141, telephone 941-695-2000. The ROD is also on the Internet at http://www.nps.gov/BICY.

SUPPLEMENTARY INFORMATION: The intent of the selected action is to limit and control the use of off-road vehicles (ORV) use in a manner that will ensure the natural and ecological integrity of the preserve. The selected action will result in long-term benefits to vegetation, soils, surface water flows, and water quality. Further, the selected action may benefit the Cape Sable seaside sparrow and the Florida Panther.

The selected action will limit ORV use to approximately 400 miles of primary trails. Trails would be designated in the Bear Island, Turner River, Corn Dance and Stairsteps Units. The Deep Lake and Look Units will remain closed to ORV use.

Dated: November 16, 2000.
Jerry Belson,
Regional Director, Southeast Region.

[FR Doc. 00-30248 Filed 11-27-00; 8:45 am]

BILLING CODE 4310-70-M